DEPARTMENT OF HOUSING AND URBAN DEVELOPMENT

[Docket No. FR-5186-N-51]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Energy: Mr. Mark Price, Department of Energy, Office of Engineering & Construction Management, MA-50, 1000 Independence Ave, SW., Washington, DC 20585: (202) 586-5422; GSA: Mr. John Smith, Deputy Assistant Commissioner, General Services Administration, Office of Property Disposal, 18th & F Streets, NW., Washington, DC 20405; (202) 501-0084; NAVY: Mrs. Mary Arndt, Acting Director, Department of the Navy, Real Estate Services, Naval Facilities Engineering Command, Washington Navy Yard, 1322 Patterson Ave., SE., Suite 1000, Washington, DC 20374-5065; (202) 685-9305 (These are not toll-free numbers).

Dated: December 11, 2008.
Mark R. Johnston,
Deputy Assistant Secretary for Special Needs.

Title V, Federal Surplus Property Program Federal Register Report for 12/19/2008

Suitable/Available Properties

Building

California

Boyle Heights SSA Bldg.

N. Breed St.

Los Angeles, CA 90033

Landholding Agency: GSA

Property Number: 54200840010

Status: Surplus

GSA Number: 9-G-CA-1676

Comments: 10,815 sq. ft., requires seismic strengthening to satisfy substantial life-safety criteria; expected lateral loads in structure rather high

Missouri

Federal Bldg/Courthouse

339 Broadway St.

Cape Girardeau, MO 63701

Landholding Agency: GSA

Property Number: 54200840013

Status: Excess

GSA Number: 7-G-MO-0673

Comments: 47,867 sq. ft., possible asbestos/lead paint, needs maintenance & seismic upgrades, 30% occupied—tenants to relocate within 2 yrs

Suitable/Available Properties

Land

California

Tract 1607

Lake Sonoma

Rockpile Rd.

Geyserville, CA 85746

Landholding Agency: GSA

Property Number: 54200840011

Status: Surplus

GSA Number: 9-GR-CA-1504

Comments: approx. 139 acres, northern portion not accessible because of steep slopes, rare manzanita species

Michigan

Former Elf Comm. Facility

3041 County Road

Republic MI 49879

Landholding Agency: GSA

Property Number: 54200840012

Status: Excess

GSA Number: 1-N-MI-0827

Comments: 6.69 acres w/transmiter bldg, support bldg., gatehouse, endangered species

Suitable/Unavailable Properties

Land

Hawaii

6 Parcels

Naval Station

Pearl Harbor HI 96818

Landholding Agency: Navy

Property Number: 77200840012

Status: Unutilized

Comments: various acres; encumbered by substantial improvements owned by a private navy tenant

North Carolina

6.5 acre parcel

Marine Corps Base

Stone Bay Rifle Range

Camp Lejeune NC

Landholding Agency: Navy

Property Number: 77200840014

Status: Underutilized

Comments: wooded area/buffer zone

Unsuitable Properties

Building

California

Bldg. 5125

Lawrence Livermore Natl Lab

Livermore CA

Landholding Agency: Energy

Property Number: 41200840009

Status: Excess

Reasons: Within 2000 ft. of flammable or explosive material Secured Area

6 Bldgs.

Lawrence Livermore Natl Lab

Livermore CA

Landholding Agency: Energy

Property Number: 41200840010

Status: Excess

Directions: 1407, 1408, 1413, 1492, 1526, 1579

Reasons: Within 2000 ft. of flammable or explosive material Secured Area

6 Bldgs.

Lawrence Livermore Natl Lab

Livermore CA

Landholding Agency: Energy

Property Number: 41200840011

Status: Excess

Directions: 3775, 4161, 4316, 4388, 4905, 4906

Reasons: Within 2000 ft. of flammable or explosive material Secured Area

Unsuitable Properties

Building

California

Bldgs. 8710, 8711, 8806

Lawrence Livermore Natl Lab

Livermore CA

Landholding Agency: Energy

Property Number: 41200840012

Status: Excess

Reasons: Secured Area; Within 2000 ft. of flammable or explosive material

4 Bldgs.

Marine Corps Base

14113, 14114, 14126, 21401

Camp Pendleton CA

Landholding Agency: Navy

Property Number: 77200840010

Status: Excess

Reasons: Secured Area; Extensive deterioration

Connecticut

Structure 338

Naval Submarine Base

New London CT

Landholding Agency: Navy

Property Number: 77200840011

Status: Unutilized

Reasons: Extensive deterioration; Secured Area

Unsuitable Properties

Building

Hawaii

Bldgs. 1626, 1627, 1628

Naval Station

Pearl Harbor HI 96860

Landholding Agency: Navy

Property Number: 77200840018

Status: Excess

Reasons: Within 2000 ft. of flammable or explosive material Secured Area

Maine

Bldgs. 89, 129, 131

Portsmouth Naval Shipyard

Kittery ME

Landholding Agency: Navy

Property Number: 77200840013

Status: Excess

Reasons: Secured Area

Rhode Island

Bldgs. A105, 1323

Naval Station

Newport RI 02842

Landholding Agency: Navy

Property Number: 77200840015

Status: Excess

Reasons: Extensive deterioration

Unsuitable Properties

Building

Rhode Island

Bldgs. 391, 400, 658

Naval Station

Newport RI 02842

Landholding Agency: Navy

Property Number: 77200840016

Status: Excess

Reasons: Secured Area; Extensive deterioration

Virginia

11 Bldgs.

Naval Weapon Station

Yorktown VA 23691

Landholding Agency: Navy

Property Number: 77200840019

Status: Excess

Directions: 10, 11, 97, 97A, 98, 472, 526, 527, 528, 528A, 1592

Reasons: Extensive deterioration; Secured Area

8 Bldgs.

Naval Weapon Station

Yorktown VA 23691

Landholding Agency: Navy

Property Number: 77200840020

Status: Excess

Directions: 109, 110, 500A, 501A, 627, 629, 1249, 1462

Reasons: Extensive deterioration; Secured Area

Unsuitable Properties

Building

Virginia

5 Bldgs.

Naval Amphibious Base

Norfolk VA

Landholding Agency: Navy

Property Number: 77200840021

Status: Unutilized

Directions: 3375, 3420, 3550, 3695, 3891

Reasons: Extensive deterioration; Secured Area

Washington

Bldgs. 20, 62, 2616, 2663

Naval Air Station

Whidbey Island WA

Landholding Agency: Navy

Property Number: 77200840017

Status: Excess

Reasons: Secured Area

[FR Doc. E8-29816 Filed 12-18-08; 8:45 am]

BILLING CODE 4210-67-P